FEDERAL TRADE COMMISSION

Public Workshop: Monitoring Software on Your PC: Spyware, Adware, and Other Software

AGENCY: Federal Trade Commission (FTC).

ACTION: Extension of Public Comment Period Until May 21, 2004.

SUMMARY: The FTC announces that the time period during which persons may submit written comments on the issues to be addressed by the public workshop has been extended.

DATES: Comments must be received by May 21, 2004.

ADDRESSES: Interested parties are invited to submit written comments. Comments should refer to “Spyware Workshop—Comment, P044509,” to facilitate the organization of comments. A comment filed in paper form should include this reference both in the text and on the envelope, and should be mailed or delivered, with two complete copies, to the following address: Federal Trade Commission/Office of the Secretary, Room 159-H (Annex B), 600 Pennsylvania Avenue, NW., Washington, DC 20580. Comments containing confidential material must be filed in paper form, as explained in the Supplementary Information section. The FTC is requesting that any comment filed in paper form be sent by courier or overnight service, if possible, because U.S. postal mail in the Washington area and at the Commission is subject to delay due to heightened security precautions. Comments filed in electronic form should be sent to the following e-mail box: spywareworkshop2004@ftc.gov.

FOR FURTHER INFORMATION CONTACT: Beverly Thomas, 202-326-2938, Dean Forbes, 202-326-2831, or David Koehler, 202-326-3627, Division of Advertising Practices, Federal Trade Commission. The above staff can be reached by mail at: Federal Trade Commission, 600 Pennsylvania Avenue, NW., Washington, DC 20580. To read the Commission's policy on how it handles the information you may submit, please visit http://www.ftc.gov/ftc/privacy.htm.

SUPPLEMENTARY INFORMATION:

Background on Workshop Goals

On April 19, 2004, the FTC is planning to host a public workshop, “Monitoring Software on Your PC: Spyware, Adware, and Other Software,” to explore the issues associated with the distribution and effects of software that aids in gathering information about a person or organization without their knowledge and which may send such information to another entity without the consumer's consent, or asserts control over a computer without the consumer's knowledge. Questions to be addressed at the workshops are set forth in the Commission's Notice Announcing Public Workshop and Requesting Public Comment, published in the Federal Register on February 24, 2004.

Form and Availability of Comments

The time period during which public comments may be submitted has been extended. Interested parties may submit written comments on the questions and issues addressed by the workshop until May 21, 2004. Especially useful are any studies, surveys, research, and empirical data. Comments should refer to “Spyware Workshop—Comment, P044509,” to facilitate the organization of comments. A comment filed in paper form should include this reference both in the text and on the envelope, and should be mailed or delivered, with two complete copies, to the following address: Federal Trade Commission/Office of the Secretary, Room 159-H (Annex B), 600 Pennsylvania Avenue, NW., Washington, DC 20580. If the comment contains any material for which confidential treatment is requested, it must be filed in paper (rather than electronic) form, and the first page of the document must be clearly labeled “Confidential.” ¹ The FTC is requesting that any comment filed in paper form be sent by courier or overnight service, if possible, because U.S. postal mail in the Washington area and at the Commission is subject to delay due to heightened security precautions. Comments filed in electronic form should be sent to the following e-mail box: spywareworkshop2004@ftc.gov.

¹ Commission Rule 4.2(d), 16 CFR 4.2(d). The comment must also be accompanied by an explicit request for confidential treatment, including the factual and legal basis for the request, and must identify the specific portions of the comment to be withheld from the public record. The request will be granted or denied by the Commission's General Counsel, consistent with applicable law and the public interest. See Commission Rule 4.9(c), 16 CFR 4.9(c).

The FTC Act and other laws the Commission administers permit the collection of public comments to consider and use in this proceeding as appropriate. All timely and responsive public comments, whether filed in paper or electronic form, will be considered by the Commission, and will be available to the public on the FTC Web site, to the extent practicable, at http://www.ftc.gov/os/comments/spyware/index.html. As a matter of discretion, the FTC makes every effort to remove home contact information for individuals from the public comments it receives before placing those comments on the FTC Web site. More information, including routine uses permitted by the Privacy Act, may be found in the FTC's privacy policy, at http://www.ftc.gov/ftc/privacy.htm.

Donald S. Clark,
Secretary.

[FR Doc. 04-7257 Filed 3-31-04; 8:45 am]

BILLING CODE 6750-01-M